DEPARTMENT OF COMMERCE

(C-580-851)

Dynamic Random Access Memory Semiconductors from the Republic of Korea: Extension of Time Limit for Final Results of Countervailing Duty Administrative Review

AGENCY: Import Administration, International Trade Administration, Department of Commerce.

EFFECTIVE DATE: November 16, 2006.

FOR FURTHER INFORMATION CONTACT: Andrew McAllister at (202) 482-1174 or Julie Santoboni at (202) 482-4194; AD/CVD Operations, Office 1, Import Administration, International Trade Administration, U.S. Department of Commerce, 14th Street and Constitution Avenue, NW, Washington, DC 20230.

SUPPLEMENTARY INFORMATION:

Background

On September 28, 2005, the Department of Commerce (the Department) published a notice of initiation of administrative review of the countervailing duty order on dynamic random access memory semiconductors (DRAMs) from the Republic of Korea, covering the period January 1, 2004 through December 31, 2004. See Initiation of Antidumping and Countervailing Duty Administrative Reviews and Request for Revocation in Part, 70 FR 56631. On January 12, 2006, the petitioner, Micron Technology, Inc., alleged that the respondent, Hynix Semiconductor, Inc., received new subsidies. The Department published the preliminary results of this administrative review on August 11, 2006. See Dynamic Random Access Memory Semiconductors from the Republic of Korea: Preliminary Results of Countervailing Duty Administrative Review, 71 FR 46192.

Statutory Time Limits

Section 751(a)(3)(A) of the Tariff Act of 1930, as amended (the Act), requires the Department to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Extension of Time Limits for Final Results

This administrative review is extraordinarily complicated due to the complexity of the countervailable subsidy practices alleged in the new subsidy allegations. Because the Department requires additional time to review and analyze arguments raised by interested parties in their case and rebuttal briefs, it is not practicable to complete this review by the original deadline of December 9, 2006. Therefore, the Department is extending the time limit for completion of the final results to not later than February 7, 2007, in accordance with section 751(a)(3)(A) of the Act.

We are issuing and publishing this notice in accordance with sections 751(a)(1) and 777(i)(1) of the Act.

Dated: November 8, 2006.
Stephen J. Claeys,
Deputy Assistant Secretary for Import Administration.

[FR Doc. E6-19401 Filed 11-15-06; 8:45 am]

BILLING CODE 3510-DS-S